SOCIAL SECURITY ADMINISTRATION

Use of Digital or Other Electronic Signature Technologies

AGENCY: Social Security Administration (SSA).

ACTION: Notice; comments requested.

SUMMARY: The Social Security Administration (SSA) is reviewing its procedures for the consideration and the approval of electronic signature technologies in lieu of traditional hard copy (“wet”) signatures. This notice explains SSA's authority to accept the use of electronic signature technologies when the Agency makes available options for electronically transacting program business with SSA or with State agencies acting on the Agency's behalf. We are also asking for public comments on the portion of this notice that deals with SSA's electronic signature policy.

In addition, we are giving notice about a pilot program to evaluate the use of digital signature technology. SSA is currently cooperating with a State of California pilot intended to explore the feasibility of using digital signature technology in an aspect of the Social Security Disability Insurance and the Supplemental Security Income programs.

The pilot involves the electronic transmission of medical records that require a signature (i.e., reports of consultative examinations) by a large medical provider to the SSA and to the California State Disability Determination Services (DDS). In the pilot, SSA and the California DDS are accepting electronic medical reports for a 90-day period and are using only these electronic documents to process claims for social security benefits. During this period, SSA and the California State DDS are to evaluate, in accordance with existing regulations, the information contained in the electronic medical evidence submitted during the pilot.

DATES: Submit your comments on SSA's electronic signature policy on or before September 30, 2002.

ADDRESSES: You may give us your comments by using our Internet site facility (i.e., Social Security Online) at http://www.ssa.gov/regulations, e-mail to regulations@ssa.gov; or telefax to (410) 966-2830; or by letter to the Commissioner of Social Security, PO Box 17703, Baltimore, Maryland 21235-7703.

You may also deliver them to the Office of Process and Innovation Management, Social Security Administration, 2109 West Low Rise Building, 6401 Security Boulevard, Baltimore, Maryland 21235-6401, between 8 a.m. and 4:30 p.m. on regular business days. Comments are posted on our Internet site, or you may inspect them physically on regular business days by making arrangements with the contact person shown in this notice.

FOR FURTHER INFORMATION: Fred Graf, Office of Program Benefits, Social Security Administration, 744 Altmeyer Building, 6401 Security Blvd., Baltimore MD 21235-6401; telephone (410) 965-7917; telefax 410 965-8582.

SUPPLEMENTARY INFORMATION:

SSA Electronic Signature Policy

Pursuant to the Government Paperwork Elimination Act (GPEA), SSA is reviewing electronic signature technologies for possible use in proposed SSA electronic business processes. Approved electronic signature technologies will be used to authenticate the identity of individuals for specific electronic transactions. Further, approved electronic signature technologies will be deemed by the Agency to convey the same authority to an individual as that associated with the traditional paper-based or “wet” signature.

GPEA states that electronic records and their related electronic signatures are not to be denied legal effect, validity, or enforceability merely because they are in electronic form. GPEA and implementation guidelines issued by the Office of Management and Budget (OMB) encourage Federal agencies to accept a variety of electronic signature technologies.

SSA's policy, contained in Social Security Ruling (SSR) 96-10p, further provides that information or documents, for which a signature is required, can be signed using digital or other electronic technologies approved by us, provided that the digital or other electronic signature reasonably ensures that the signer can be identified and that the signer cannot later repudiate the submission of the information. SSR 96-10p expands the meaning of the term “signature” for SSA's activities to include electronic and digital methods that serve the purpose of originator identification, authentication, and non-repudiation. Thus, SSR 96-10p provides that information for which a signature is required may be signed using digital or other electronic technologies approved by us.

The Social Security Act does not mandate a signature on SSA documents or forms. However, SSA's regulations prescribe a signature for some SSA business applications and information. Where our regulations are silent regarding a signature, our procedures may still require, as a matter of policy, individuals to include a signature on information or documents submitted to us.

When we convert to or adopt new electronic procedures to perform specific business processes that require a signature, we will conduct a risk analysis as OMB guidelines and as applicable social security ruling(s) prescribe. Based on the statutory/regulatory requirement and/or the results of a risk analysis, we will select and approve digital or other electronic signature technology and any other procedures that, in our judgment, are appropriate to electronically perform the business process.

Our risk analysis will depend largely upon the specific business process which we contemplate providing electronically or over the Internet. Generally, we anticipate that the analysis will examine how the conversion of a business process electronically or over the Internet will affect service to the public. Additionally, we will examine how to appropriately manage potential legal risks associated with an electronic business process, (including fraud detection, prevention, and prosecution concerns). In the planning and selection of appropriate procedures and electronic signature technologies, we will consider factors associated with traditional paper-based processes, such as originator authentication, message integrity, non-repudiation, and confidentiality.

Our approval process for electronic signature technologies is detailed in processing instructions. SSA senior management will approve the use of electronic signature technologies and related procedures with input from SSA components involved in the specific business application that we are electronically providing.

When SSA senior management has approved an electronic service delivery process or adopted an electronic process using an electronic signature technology, the information received or distributed through the approved process will be treated as the functional equivalent of information received or distributed using traditional paper-based methods.

As indicated above, we are asking for your comments on our electronic signature policy.

Use of Medical Evidence and the Electronic Signature Pilot

SSA and the State DDS have the authority to accept medical evidence in order to determine if an applicant for social security benefits is disabled and entitled to benefits. The Social Security Act vests the authority to make the initial medical determinations in a State DDS where the applicant resides. 42 U.S.C. 405(a), 421, 423(d). The State DDS evaluates the medical evidence in accordance with SSA's regulations and such other internal procedures as SSA shall prescribe.

SSA's procedures permit a State DDS to accept medical evidence, provided that the claims file contains an acceptable attestation regarding the source and the validity of the submitted medical record. Currently, SSA's procedures permit a variety of attestations and do not require a medical provider's signature as attestation for most medical evidence. SSA's regulations do prescribe a signature for the receipt of a certain type of medical evidence, called a consultative examination report. At the request of the State DDS, a medical provider that is usually under contract prepares the consultative examination report.

SSA's regulations require that a consultant examiner personally review and sign the consultative examination report submitted to the SSA or State DDS. In the pilot, SSA and the California DDS plan to test for 90 days the use exclusively of electronic consultative examination reports that are authenticated by digital signature technology. The pilot will affect only a small number of disability cases in part of the State of California.

SSA construes its regulations, policy, and the authorization given under GPEA, to permit SSA and a State DDS to accept an electronic medical report transmitted by a consultative examiner using a digital signature technology in lieu of a hard copy report authenticated by the wet signature of the consultative examiner.

Authority: 42 U.S.C. 405(a), 421, 423(d); Pub. L. 105-277, Div. C, Title XVII, 1701 to 1710, Oct. 21, 1998, Social Security Ruling 96-10p; 20 CFR 404.1519n(e); 416.919n(e).

Dated: August 23, 2002.
Martin H. Gerry,
Deputy Commissioner for Disability and Income Security Programs.

[FR Doc. 02-22286 Filed 8-29-02; 8:45 am]

BILLING CODE 4191-02-P